SMALL BUSINESS ADMINISTRATION

[Declaration of Disaster #3272; Amendment #3]

State of Wisconsin

In accordance with a notice from the Federal Emergency Management Agency, dated July 26, 2000, the above-numbered Declaration is hereby amended to include Columbia, Iowa, and Waukesha Counties in the State of Wisconsin as a disaster area due to damages caused by severe storms, tornadoes, and flooding beginning on May 26, 2000 and continuing through July 19, 2000.

In addition, applications for economic injury loans from small businesses located in the contiguous Counties of Green Lake and Marquette in the State of Wisconsin may be filed until the specified date at the previously designated location. Any counties contiguous to the above-named primary counties and not listed herein have been previously declared.

All other information remains the same, i.e., the deadline for filing applications for physical damage is September 9, 2000 and for economic injury the deadline is April 11, 2001.

(Catalog of Federal Domestic Assistance Program Nos. 59002 and 59008)

Dated: July 31, 2000.
Herbert L. Mitchell,
Acting Associate Administrator for Disaster Assistance.

[FR Doc. 00-20393 Filed 8-10-00; 8:45 am]

BILLING CODE 8025-01-P